DEPARTMENT OF LABOR

Employment and Training Administration

[TA-W-59,299; TA-W-59,299A; TA-W-59,299B; TA-W-59,299C]

Bayer Clothing Group, Inc., Clearfield, PA; Bayer Clothing Group, Inc., Sales And Merchandising Office, New York, NY; Bayer Clothing Group, Inc.,Target Sales Corp, Naperville, IL; Bayer Clothing Group, Inc.,Target Sales Corp., Frisco, TX; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on May 31, 2006, applicable to workers of Bayer Clothing Group, Inc., Clearfield, Pennsylvania. The notice was published in the Federal Register on June 22, 2006 (71 FR 35949).

At the request of a company official, the Department reviewed the certification for workers of the subject firm. New information shows that worker separations have occurred involving employees of the New York, New York Sales and Merchandising Office and the Target Sales Corporation, Naperville, Illinois and Frisco, Texas facilities of Bayer Clothing Group, Inc., Clearfield, Pennsylvania.

Employees of the New York, New York Sales and Merchandising Office and Target Sales Corp., Inc., Naperville, Illinois and Frisco, Texas provide sales function services for the production of suits, blazers and pants produced by the subject firm.

Based on these findings, the Department is amending this certification to include employees of the New York, New York Sales and Merchandising Office and Target Sales Corp., Inc., Naperville, Illinois and Frisco, Texas facilities of Bayer Clothing Group, Inc.

The intent of the Department's certification is to include all workers of Bayer Clothing Group, Inc., Clearfield, Pennsylvania who were adversely affected by a shift in production to Nicaragua and the Dominican Republic.

The amended notice applicable to TA-W-59,299 is hereby issued as follows:

All workers of Bayer Clothing Group, Inc., Clearfield, Pennsylvania (TA-W-59,299), Bayer Clothing Group, Inc., Sales and Merchandising Office, New York, New York (TA-W-59,299A) and Bayer Clothing Group, Inc., Target Sales Corp., Naperville, Illinois (TA-W-59,299B) and Target Sales Corp., Frisco, Texas, who became totally or partially separated from employment on or after June 4, 2006, through May 31, 2008, are eligible to apply for adjustment assistance under Section 223 of the Trade Act of 1974, and are also eligible to apply for alternative trade adjustment assistance under Section 246 of the Trade Act of 1974.

Signed at Washington, DC, this 8th day of May 2007.
Linda G. Poole,
Certifying Officer, Division of Trade Adjustment Assistance.

[FR Doc. E7-9101 Filed 5-10-07; 8:45 am]

BILLING CODE 4510-FN-P